DEPARTMENT OF TRANSPORTATION

Federal Aviation Administration

Supplemental Notice of Availability of the Final Environmental Impact Statement Containing a DOT Section 4(f)/303(c) Evaluation for a Proposed Replacement Airport for the City of St. George, UT

AGENCY: Federal Aviation Administration (FAA), DOT.

ACTION: Supplemental Notice of Availability.

SUMMARY: The Federal Aviation Administration (FAA) is issuing a supplemental Supplement Notice of Availability of the Final Environmental Impact Statement containing a DOT Section 4(f)(/303(c) evaluation for a Proposed Replacement Airport for the City of St. George, Utah, published on May 12, 2006 (Volume 71 FR 277770). This supplemental notice is to advise the public that additional copies of the Final Environmental Impact Statement (FEIS) for the proposed replacement airport for the City of St. George, Utah, have been made available for public review at six additional locations. Other than the addition of the six locations for public review, all other information in the original notice remains the same, including the public review period, which begins May 19, 2006. The FAA will accept comments on new and/or revised/updated information and analyses disclosed in Appendices T through Y and in Chapter 6, section 6.4, Air Quality, until 5 p.m. Pacific Daylight Time, Monday, July 3, 2006, at the address listed in the section entitled FOR FURTHER INFORMATION CONTACT.

FOR FURTHER INFORMATION CONTACT: Mr. T.J. Stetz, Regional Environmental Protection Specialist, Federal Aviation Administration, Northwest Mountain Region, Airports Division, 1601 Lind Avenue, SW., Suite 315, Renton, Washington 98055-4056; telephone: (425) 227-2611; fax: (425) 227-1600; and e-mail: TJ.Stetz@faa.gov.

Public Availability: The additional six FEIS copies may be viewed during regular business hours at the following locations:

1. Salt Lake City—Main Library, 210 E 400 S., Salt Lake City, UT 84111.

2. Kanab City Library—374 N. Main Street, Kanab, Utah 84741.

3. Zion National Park Headquarters—Springdale, UT 84767-1099.

4. Las Vegas—Main Branch, 2300 Civic Center Drive, North Las Vegas, NV 89030.

5. Los Angeles County Library—Main Branch, 12700 Grevillea Avenue, Hawthorne, CA 90250.

6. Flagstaff Coconino County—Main Library, 300 W. Aspen Avenue, Flagstaff, AZ 86001.

An electronic copy of the FEIS also will be available as of May 19, 2006, on the project Web site. It can be accessed at: http://www.airportsites.net/squ-eis.

Issued in Renton, Washington, on May 16, 2006.
Lowell H. Johnson,
Manager, Airports Division, Northwest Mountain Region.

[FR Doc. 06-4751 Filed 5-18-06; 10:54 am]

BILLING CODE 4910-13-M